FEDERAL EMERGENCY MANAGEMENT AGENCY

[FEMA-3158-EM]

Oklahoma; Emergency and Related Determinations

AGENCY: Federal Emergency Management Agency (FEMA).

ACTION: Notice.

SUMMARY: This is a notice of the Presidential declaration of an emergency for the State of Oklahoma (FEMA-3158-EM), dated December 28, 2000, and related determinations.

EFFECTIVE DATE: December 28, 2000

FOR FURTHER INFORMATION CONTACT: Madge Dale, Response and Recovery Directorate, Federal Emergency Management Agency, Washington, DC 20472, (202) 646-3772.

SUPPLEMENTARY INFORMATION: Notice is hereby given that, in a letter dated December 28, 2000, the President declared an emergency under the authority of the Robert T. Stafford Disaster Relief and Emergency Assistance Act, 42 U.S.C. 5121, et seq., as amended by the Disaster Mitigation Act of 2000, Pub. L. No. 106-390, 114 Stat. 1552 (2000), as follows:

I have determined that the emergency conditions in certain areas of the State of Oklahoma, resulting from a severe winter and ice storm on December 25, 2000, and continuing, is of sufficient severity and magnitude to warrant an emergency declaration under the Robert T. Stafford Disaster Relief and Emergency Assistance Act, 42 U.S.C. 5121, et seq., as amended by the Disaster Mitigation Act of 2000, Pub. L. No. 106-390, 114 Stat. 1552 (2000) (the Stafford Act). I, therefore, declare that such an emergency exists in the State of Oklahoma.

You are authorized to coordinate all disaster relief efforts which have the purpose of alleviating the hardship and suffering caused by the emergency on the local population, and to provide appropriate assistance for required emergency measures, authorized under Title V of the Stafford Act to save lives, protect property and public health and safety, or to lessen or avert the threat of a catastrophe in the designated areas. You are further authorized to identify, mobilize, and provide at your discretion, equipment and resources necessary to alleviate the impacts of the emergency and such other forms of assistance under Title V of the Stafford Act, as you may deem appropriate. Specifically, you are authorized to provide assistance for debris removal (Category A) and emergency protective measures (Category B) including direct Federal assistance at 75 percent Federal funding. This assistance excludes regular time costs for subgrantees' regular employees.

In order to provide Federal assistance, you are hereby authorized to allocate from funds available for these purposes, such amounts as you find necessary for Federal disaster assistance and administrative expenses.

Further, you are authorized to make changes to this declaration to the extent allowable under the Stafford Act.

Notice is hereby given that pursuant to the authority vested in the Director of the Federal Emergency Management Agency under Executive Order 12148, I hereby appoint C. Michel Butler of the Federal Emergency Management Agency to act as the Federal Coordinating Officer for this declared emergency.

I do hereby determine the following areas of the State of Oklahoma to have been affected adversely by this declared emergency:

FEMA intends to coordinate all disaster relief efforts which have the purpose of alleviating the hardship and suffering caused by the emergency on the local population, and to provide appropriate assistance for required emergency measures, authorized under Title V of the Stafford Act to save lives, protect property and public health and safety, or to lessen or avert the threat of a catastrophe in the designated areas. Specifically, FEMA is authorized to identify, mobilize, and provide at its discretion, equipment and resources necessary to alleviate the impacts of the emergency. FEMA is further authorized to provide debris removal (Category A) and emergency protective measures (Category B), including direct Federal assistance at 75 percent Federal funding.

This assistance is for the counties of Atoka, Bryan, Carter, Choctaw, Cleveland, Coal, Garvin, Haskell, Hughes, Johnston, LeFlore, Latimer, Love, Marshall, McClain, McCurtain, McIntosh, Murray, Muskogee, Okfuskee, Oklahoma, Pittsburg, Pontotoc, Pottawatomie, Pushmataha, Seminole, and Sequoyah.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)

James L. Witt,
Director.

[FR Doc. 01-480 Filed 1-8-01; 8:45 am]

BILLING CODE 6718-02-P